DEPARTMENT OF DEFENSE

Defense Logistics Agency

Notice of Public Scoping Meetings on the Programmatic Environmental Impact Statement for the Long Term Management of the National Defense Stockpile Inventory of Excess Mercury

AGENCY: Defense National Stockpile Center (DNSC), DoD.

ACTION: Notice of public scoping meetings.

SUMMARY: In the February 5, 2001 Federal Register (pages 8947-8949), DNSC announced in a Notice of Intent (NOI) that it will prepare an environmental impact statement (EIS) that will evaluate alternative strategies for managing the Department of Defense stockpile of excess mercury, and hold public scoping meetings. The Notice of Intent (NOI) did not include the specific details of the public scoping meetings. This notice announces the locations, dates, times and format of the scoping meetings. This notice is provided in accordance with the Council on Environmental Quality's regulations (40 CFR parts 1500-1508) and the Defense Logistic Agency's (DLA) regulations (DLAR 1000.22) implementing the National Environmental Policy Act (NEPA). Because some of the excess mercury to be considered in the Mercury Management EIS is currently stored at the Department of Energy's (DOE's) Y-12 National Security Complex in Oak Ridge, Tennessee, DOE is a cooperating agency for the preparation of this EIS.

DATES: Public scoping meetings are scheduled to be held as follows: April 19, 2001 in Niles, OH; April 24 in New Haven, IN; May 1 in Washington, DC; May 8 in Oak Ridge, TN; and May 22 in Hillsborough, NJ. The times and locations of the meetings are provided in the Supplementary Information section. The scoping period ends on June 30, 2001. Comments on the scope of the Mercury Management EIS must be postmarked, e-mailed, or otherwise submitted no later than this date.

ADDRESSES: Written comments should be sent to: Project Manager, Mercury Management EIS; DNSC-E; Defense Logistics Agency; Defense National Stockpile Center, 8725 John J. Kingman Road, Suite 4616, Fort Belvoir, VA. 22060-6223.

FOR FURTHER INFORMATION CONTACT: Requests for information can be made by: leaving a voice message at 1-888-306-6682; faxing a message to 1-888-306-8818; emailing a request to information@mercuryeis.com; or accessing the Mercury Management EIS web-site at www.mercuryeis.com.

For information concerning DOE's NEPA process, contact Ms. Carol Borgstrom, Director, Office of NEPA Policy and Compliance (EH-42), U.S. Department of Energy, 1000 Independence Avenue, SW., Washington DC, 20585. Telephone 202-586-4610, leaving a message at 1-800-472-2756, or access tis.eh.doe.gov/NEPA.

SUPPLEMENTARY INFORMATION:

Background

In the February 5, 2001 Federal Register (pages 8947-8949), DNSC, part of the DLA within the U.S. Department of Defense, announced that it will prepare an EIS that assesses alternative ways of managing the National Defense Stockpile inventory of excess mercury. Because the mercury has been declared excess to national defense needs, DNSC must decide on a strategy for managing the excess mercury. DNSC is responsible for the safe, secure, and environmentally sound stewardship for all commodities in the National Defense Stockpile inventory, including the inventory of excess mercury. The inventory of approximately 4,890 tons (4,440 metric tons) of excess mercury is currently stored in enclosed warehouses at four locations. Most of the excess inventory, about 2,882 tons (75,980 flasks), is stored at the Somerville Depot near Somerville, NJ; Approximately 770 tons (20,276 flasks) are stored at the DOE Y-12 National Security Complex in Oak Ridge, TN; and 621 tons (16,355 flasks) are stored at the Warren Depot near Warren, OH. The remainder, approximately 614 tons (16,151 flasks), is stored at the Casad Depot near New Haven, IN. DNSC will use the EIS process to involve the public and to ensure that the public has an opportunity to comment on what should be done regarding the management of this mercury.

Scoping

DNSC invites Federal agencies, state, local and tribal governments, the general public, and the international community to comment on both the scope of environmental and socioeconomic issues and the management alternatives that should be addressed in the EIS. The public scoping period began with the publication of the Notice of Intent in the Federal Register on February 5, 2001 and will continue until June 30, 2001. DNSC will consider all comments received or postmarked by the end of the comment period in defining the scope of this EIS. Comments received after that date will be considered to the extent practicable.

As part of the scoping process, DNSC has scheduled public meetings at the following locations:

April 19, 2001, 5:30 to 9 pm

McMenamy's Multipurpose Complex

325 Youngstown-Warren Road

Niles, Ohio

April 24, 2001, 5:30 to 9 pm

Park Hill Learning Center

1000 Prospect Avenue

New Haven, Indiana

May 1, 2001, 1:30 to 5 pm

Marriott Metro Center

775 12th Street, NW

Washington, DC

May 8, 2001, 5:30 to 9 pm

Garden Plaza Hotel

215 S. Illinois Avenue

Oak Ridge, Tennessee

May 22, 2001, 5:30 to 9 pm

Hillsborough High School

466 Raider Boulevard

Hillsborough, New Jersey

The registration desk and the exhibit area will open at 5:30 pm (1:30 pm for the Washington, DC meeting) and remain open for three and one-half hours. The exhibit area will be staffed by DNSC officials and others who can answer questions about the scope and content of the Mercury Management EIS.

At 7 pm (3 pm for the Washington, DC meeting), DNSC will provide a short presentation on the EIS process and the anticipated scope of the Mercury Management EIS. Following the DNSC presentation, elected or appointed officials, organizations, and individuals will be invited to offer their verbal comments. Speakers will be allotted five minutes each. The meetings will be managed by a facilitator who will help keep the meetings focused on obtaining public input on the scope and content of the EIS.

Advance registration for the public meetings is requested but not required. Requests to speak at the scoping meetings may be made by writing to the Mercury Management EIS project manager (see ADDRESSES, above), by calling the toll free phone number (1-888-306-6682) by 4 pm EST the day before the meeting, or in person at the meeting. If you call to pre-register, please leave your name, the organization you represent, and the location of the meeting you plan to attend. Speakers will be heard on a first-come, first-served basis as time permits. Speakers do not have to pre-register, but are encouraged to do so to ensure that they are allotted a time to speak. Comments will be recorded by a court reporter and will become a part of the meeting record. Speakers are encouraged to provide written versions of their spoken comments. The facilitator and DNSC staff may ask questions to clarify the speaker's comments.

Written comments will be accepted at the meetings and comment forms will be provided for this purpose. Written and spoken comments will be given equal weight in the scoping process. For those individuals who prefer to make verbal comments prior to or after the formal presentation, a court reporter will be available in the exhibit area.

All meeting facilities are handicapped accessible. Persons that are hearing impaired or have other special requirements should contact the Project Manager in advance so that arrangements may be made to accommodate their needs.

Input from the scoping meetings along with comments received by other means (i.e., mail, phone, fax, email, and web-site) will be used by DNSC in refining the scope of the EIS. Issues raised at the scoping meetings will be documented in the Scope of Statement for the Mercury Management EIS. The objective of this report is to summarize the essence of the comments received in a clear, concise manner, and accurately portray the planned scope of the EIS. The Scope of Statement will be distributed to information repositories near the scoping meeting locations, accessible via the EIS web site, and mailed out upon request. The repository locations are listed below and are also provided on the Mercury Management EIS web site at www.mercuryeis.com.

Allen County Public Library

435 Ann Street

New Haven, Indiana 46774

Bridgewater Branch Library

N. Bridge Street and Vogt Drive

Bridgewater, New Jersey 08807

Fairfax County Public Library

12000 Government Center Parkway, Suite 324

Fairfax, VA 22035

Martin Luther King Jr. Library

901 G Street NW

Washington, DC 20001

Oak Ridge Public Library

1401 Oak Ridge Turnpike

Oak Ridge, TN 37830

Raritan Valley Community College

Evelyn S. Field Library, North Branch

Route 28 and Lamington Road

Somerville, New Jersey 08876

Somerville Public Library

35 West End Avenue

Somerville, New Jersey 08876

Warren-Trumbull County Public Library

444 Mahoning Avenue, NW

Warren, Ohio 44483

West End Branch Library

1101 24th and L Street, NW

Washington, DC 20037

Issued in Fort Belvoir, VA, on this 16th day of March 2001.
Richard J. Connelly,
Administrator, Defense National Stockpile Center.

[FR Doc. 01-7234 Filed 3-22-01; 8:45 am]

BILLING CODE 3620-01-M